DEPARTMENT OF THE INTERIOR

National Park Service

National Register of Historic Places; Notification of Pending Nominations

Nominations for the following properties being considered for listing in the National Register were received by the National Park Service before August 10, 2002. Pursuant to section 60.13 of 36 CFR part 60 written comments concerning the significance of these properties under the National Register criteria for evaluation may be forwarded by United States Postal Service, to the National Register Historic Places, National Park Service, 1849 C St. NW., NC400, Washington, DC 20240; by all other carriers, National Register of Historic Places, National Park Service, 800 N. Capitol St., NW., Suite 400, Washington, DC 20002; or by fax, 202-343-1836. Written or faxed comments should be submitted by September 4, 2002.

Carol D. Shull,
Keeper of the National Register of Historic Places.

ARKANSAS

Pulaski County

Prospect Terrace Apartments, 3603 Kavanaugh Blvd., Little Rock, 02001043

Union County

McWilliams, J.H., House, 323 West Oak St., El Dorado, 02001044

GEORGIA

DeKalb County

Kirkwood School, 138 Kirkwood Rd., Atlanta, 02001045

IOWA

Black Hawk County

Chapple and Young Block, 316-318-320 Main St., La Port City, 02001025

Cerro Gordo County

MBA (Modern Brotherhood of America) Building, 103 E. State St., Mason City, 02001021

Clayton County

McGregor Commercial Historic District (Iowa's Main Street Commercial Architecture MPS), 100-300 blks of Main St., 100-200 blks. of A St., McGregor, 02001033

Dubuque County

Grand Opera House (Footlights in Farm Country: Iowa Opera Houses MPS), 135 8th St., Dubuque, 02001029

Jackson County

Rose Hill Historic District, 1400-1700 blks of Douglas St., Grandview Blvd. and Summit St., Sioux City, 02001022

Johnson County

Longfellow Historic District (Iowa City, Iowa MPS AD), Roughly bounded by Court, Rundell, Sheridan, and west boundary of Longfellow School, Iowa City, 02001023

Lee County

The Park Place—Grand Avenue Residential District, 4th at Park Place and Orleans St. and N up Grand Ave. to Rand Park, Keokuk, 02001020

Linn County

Central City Commercial Historic District (Central City, Iowa MPS), E. Main St. 300-400 blk., N. 4th St. to Commercial, Central City, 02001027

Dows Street Historic District (Ely, Iowa MPS), Dows St. bet. State and Main Sts., Ely, 02001026

Marshall County

State Center Commercial Historic District (Iowa's Main Street Commercial Architecture MPS), Main St. Blks 200-100 West and 100 East, State Center, 02001034

Mitchell County

Osage Commercial Historic District (Iowa's Main Street Commercial Architecture MPS), Main Street Blks. 700, 600 and parts of 500, Osage, 02001030

Walnut Grove School, 3272 Foothill Ave., Osage, 02001028

Montgomery County

Grant Commercial Historic District (Iowa's Main Street Commercial Architecture MPS), Parts of Second St. and U Ave., Grant, 02001031

Muscatine County

West Liberty Commercial Historic District (Iowa's Main Street Commercial Architecture MPS), Bounded by 4th St., Railroad Tracks, Clay and Spencer Sts., West Liberty, 02001035

Polk County

Hohberger Building, 502-506 E. Locust St., Des Moines, 02001019

Taylor County

Bedford Commerical Historic District (Iowa's Main Street Commercial Architecture MPS), 200-500 blks. Main St., 500-600 blks, Court, 500 blk. Central, Bedford, 02001032

Van Buren County

Vernon School, 26849 South St., Vernon, 02001024

LOUISIANA

Tangipahoa Parish

Dykes Log Cabin, 17250 State Line Rd., Kentwood, 02001036

MASSACHUSETTS

Middlesex County

Case's Corner Historic District, School, Wellesley, Newton and Ash Sts., Weston, 02001038

Plymouth County

First Trinitarian Congregational Church, 381 Country Way, Scituate, 02001037

Suffolk County

Paine Furniture Building, 75-81 Arlington St., Boston, 02001039

MISSOURI

St. Louis Independent city

Century-Syndicate Trust Building, Bounded by Locust, Ninth, Tenth and Olive Sts., St. Louis (Independent City), 02001054

NEW YORK

Erie County

St. Mary of the Angels Motherhouse Complex, 400 Mill St., Williamsville, 02001046

Otsego County

Chapin Memorial Church, 12 Ford Ave., Oneonta, 02001049

Cornfield, The, 655 Cty Rd. 26, Fly Creek, 02001047

Rockland County

Bear Mountain Inn, Seven Lakes Drive, Bear Mountain, 02001048

Suffolk County

New Suffolk School, Fifth Street at King St., New Suffolk, 02001050

Warren County

Mixter Blacksmith Shop, 27 Main St., Warrensburg, 02001051

OHIO

Summit County

Smith, William, House (Canal, Railroad, and Industrial Resources of the Village of Clinton/Warwick, Ohio MPS), 7894 Main St., Clinton, 02001052

UTAH

Emery County

Lemmon, Leander, House, 45 West Center, Huntington, 02001040

Salt Lake County

Sarah Daft Home for the Aged, 737 S. 1300 East, Salt Lake City, 02001041

San Juan County

St. Christopher's Episcopal Mission, UT 163, Bluff, 02001042

WEST VIRGINIA

Nicholas County

Brown, Dr. Flavius, House, Old Wilderness Rd., Summersville, 02001053

A request for removal has been made for the following resources:

IOWA

Allamakee County

Meier, Fred W., Round Barn (Iowa Round Barns: The Sixty Year Experiment TR), Off IA 9 Ludlow, 86001411

SOUTH DAKOTA

Todd County

Rosebud Agency, Main St. and Legion Ave., Rosebud, 80003733

[FR Doc. 02-21034 Filed 8-19-02; 8:45 am]

BILLING CODE 4310-70-P